DEPARTMENT OF THE INTERIOR

National Park Service

[NPS-WASO-NRNHL-DTS#-25749;PPWOCRADI0, PCU00RP14.R50000]

National Register of Historic Places; Notification of Pending Nominations and Related Actions

AGENCY: National Park Service, Interior.

ACTION: Notice.

SUMMARY: The National Park Service is soliciting comments on the significance of properties nominated before June 2, 2018, for listing or related actions in the National Register of Historic Places.

DATES: Comments should be submitted by July 13, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before June 2, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Los Angeles County

Brown Beret Headquarters (Chicano Moratorium in Los Angeles County MPS), 2639-41 E 4th St., East Los Angeles, MP100002654.

Chicano Moratorium March December 20, 1969 (Chicano Moratorium in Los Angeles County MPS), Five Points Memorial, N Indiana St., Michigan Ave., Obregon Park, East Los Angeles, MP100002655.

El Barrio Free Clinic (Chicano Moratorium in Los Angeles County MPS), 5012 E Whittier Blvd., Los Angeles, MP100002656.

National Chicano Moratorium March August 29, 1970 (Chicano Moratorium in Los Angeles County MPS), Belvedere & Salazar Parks, Mednik & Atlantic Aves., E 3rd St., Beverly & Whittier Blvds., East Los Angeles, MP100002657.

DELAWARE

Sussex County

Godwin School, 23235 Godwin School Rd., Millsboro, SG100002658.

NEBRASKA

Cherry County

County Line Bridge (Highway Bridges in Nebraska MPS), Private Rd. over Niobrara R., Valentine vicinity, MP100002660.

Douglas County

Drummond Motor Company (Lincoln Highway in Nebraska MPS), 2600 Farnam St., Omaha, MP100002661.

Firestone Tire and Rubber Building (Lincoln Highway in Nebraska MPS), 2570 Farnam St., Omaha, MP100002663.

Holt County

O'Neill Carnegie Library (Carnegie Libraries in Nebraska MPS AD), 601 E Douglas St., O'Neill, MP100002665.

NEW YORK

Madison County

Oneida Downtown Commercial Historic District, Broad, Main & Cedar Sts., S of Elm, N of Washington, Oneida, SG100002667.

Oneida County

Downtown Genessee Street Historic District, Various, Utica, SG100002668.

WISCONSIN

Pierce County

Glen Park Suspension Footbridge, End of W Cascade Ave., across the South Fork Kinnickkinnic R., River Falls, SG100002671.

A request for removal has been made for the following resource:

NORTH DAKOTA

Morton County

State Training School Historic District, Heart R., W bank, 0.5 mi. S of W Main St., on W edge of Mandan, Mandan vicinity, OT95001549.

Additional documentation has been received for the following resources:

ARIZONA

Maricopa County

Silk Stocking Neighborhood Historic District, 290 N Washington St., Chandler, AD11000567.

Pima County

Blenman—Elm Historic District, 2401 E Elm St., Tucson, AD03000318.

ARKANSAS

Garland County

Ouachita Avenue Historic District, Bounded by Ouachita Ave., Orange St., Central Ave. & Olive St., Hot Springs, AD11000690.

NEBRASKA

Douglas County

Fairacres Historic District, Roughly bounded by Fairacres Rd., Dodge, N 62nd, California & N 68th Sts., Omaha, AD100001353.

Nomination submitted by Federal Preservation Officer:

The State Historic Preservation Officer reviewed the following nomination and responded to the Federal Preservation Officer within 45 days of receipt of the nomination and supports listing the property in the National Register of Historic Places.

NEBRASKA

Hall County

Grand Island VA Hospital (United States Third Generation Veterans Hospitals, 1946-1958 MPS), 2201 N Broadwell Ave., Grand Island, MP100002664.

Authority: Section 60.13 of 36 CFR part 60.

Dated: June 8, 2018.
Julie H. Ernstein,
Acting Chief, National Register of Historic Places/National Historic Landmarks Program.

[FR Doc. 2018-13941 Filed 6-27-18; 8:45 am]

BILLING CODE 4312-52-P